DEPARTMENT OF COMMERCE

Foreign-Trade Zones Board

[S-422-2025]

Foreign-Trade Zone 37; Application for Subzone; Centrome Inc. dba Advanced Biotech; Oneonta, New York

An application has been submitted to the Foreign-Trade Zones (FTZ) Board by the County of Orange, grantee of FTZ 37, requesting subzone status for the facility of Centrome Inc. dba Advanced Biotech, located in Oneonta, New York. The application was submitted pursuant to the provisions of the Foreign-Trade Zones Act, as amended (19 U.S.C. 81a-81u), and the regulations of the FTZ Board (15 CFR part 400). It was formally docketed on December 30, 2025.

The proposed subzone (80.21 acres) is located at 399 County Road 58, Oneonta, New York. No authorization for production activity has been requested at this time. The proposed subzone would be subject to the existing activation limit of FTZ 37.

In accordance with the FTZ Board's regulations, Juanita Chen of the FTZ Staff is designated examiner to review the application and make recommendations to the Executive Secretary.

Public comment is invited from interested parties. Submissions shall be addressed to the FTZ Board's Executive Secretary and sent to: ftz@trade.gov. The closing period for their receipt is February 17, 2026. Rebuttal comments in response to material submitted during the foregoing period may be submitted through March 2, 2026.

A copy of the application will be available for public inspection in the “Online FTZ Information Section” section of the FTZ Board's website, which is accessible via www.trade.gov/ftz.

For further information, contact Juanita Chen at juanita.chen@trade.gov.

Dated: December 31, 2025.
Elizabeth Whiteman,
Executive Secretary.

[FR Doc. 2025-24243 Filed 1-2-26; 8:45 am]

BILLING CODE 3510-DS-P